DEPARTMENT OF THE TREASURY

Customs Service

[T.D. 01 -43]

Customs Approval of Q & Q Control Service Americas Incorporated as a Commercial Gauger

AGENCY: Customs Service, Department of the Treasury.

ACTION: Notice of Accreditation of Q & Q Control Service Americas Inc. of Houston, Texas, as a commercial gauger.

SUMMARY: Q & Q Control Service Americas Inc. of Houston, Texas, has applied to U.S. Customs under § 151.13 of the Customs Regulations for approval as a commercial gauger to gauge petroleum product, animal and vegetable oils, and organic compounds. Customs has determined that this company meets all of the requirements for approval as a commercial gauger. Specifically, Q & Q Control Service Americas Inc. has been granted approval to gauge petroleum product under Chapter 27 and Chapter 29, animal and vegetable oils under Chapter 15 and organic compounds under Chapter 29 of the Harmonized Tariff Schedule of the United States (HTSUS). Therefore, in accordance with § 151.13 of the Customs Regulations, Q & Q Control Service Americas Inc. of Houston, Texas, is hereby approved to gauge the products named above.

Location: Q & Q Control Service Americas Inc. approved site is located at: 16514 A Dezavala Road, Houston (Channelview), Texas, 77530.

EFFECTIVE DATE: June 1, 2001.

FOR FURTHER INFORMATION CONTACT: Michael Parker, National Quality Manager, Laboratories and Scientific Services, U.S. Customs Service, 1300 Pennsylvania Avenue, NW., Suite 1500 North, Washington, DC 20229, (202) 927-1060.

Dated: May 31, 2001.
Ira S. Reese,
Executive Director, Laboratories and Scientific Services.

[FR Doc. 01-14177 Filed 6-5-01; 8:45 am]

BILLING CODE 4820-20-P